DEPARTMENT OF COMMERCE

National Oceanic and Atmospheric Administration

15 CFR Part 922

[Docket No. 210811-0161]

RIN 0648-BG01

Designation of Wisconsin Shipwreck Coast National Marine Sanctuary

AGENCY: Office of National Marine Sanctuaries (ONMS), National Ocean Service (NOS), National Oceanic and Atmospheric Administration (NOAA), Department of Commerce (DOC).

ACTION: Notification of effective date of final rule; technical amendment.

SUMMARY: The National Oceanic and Atmospheric Administration (NOAA) is providing notice that the final rule published on June 23, 2021, to designate Wisconsin Shipwreck Coast National Marine Sanctuary (WSCNMS) became effective on August 16, 2021. NOAA is also amending the WCSNMS regulations to reflect the effective date.

DATES: The final rule to designate Wisconsin Shipwreck Coast National Marine Sanctuary, which was published at 86 FR 32737 on June 23, 2021, is effective August 16, 2021. The technical amendment in this document is effective August 16, 2021.

FOR FURTHER INFORMATION CONTACT: Russ Green, Regional Coordinator, Office of National Marine Sanctuaries at 920-459-4425, russ.green@noaa.gov, or Wisconsin Shipwreck Coast National Marine Sanctuary, One University Drive, Sheboygan, WI 53081, Attn: Russ Green, Regional Coordinator.

SUPPLEMENTARY INFORMATION: Pursuant to Section 304(b) of the National Marine Sanctuaries Act (NMSA) (16 U.S.C. 1434(b)), NOAA published the designation and final regulations to implement the designation of WSCNMS on June 23, 2021 (86 FR 32737). As required by the NMSA, the designation and regulations would become effective following the close of a review period of 45 days of continuous session of Congress beginning on the date of publication. The regulations are effective on August 16, 2021. Section 922.216(a) is amended to reflect the effective date of August 16, 2021.

As discussed in the final rule, the regulations at § 922.213(a)(2), which prohibit grappling into or anchoring on shipwreck sites, are stayed and will not become effective until October 1, 2023.

List of Subjects in 15 CFR Part 922

Administrative practice and procedure, Coastal zone, Historical preservation, Indians, Intergovernmental relations, Marine resources, Natural resources, Penalties, Recreation and recreation areas, Reporting and recordkeeping requirements, Research, Wildlife.

Nicole R. LeBoeuf,
Assistant Administrator for Ocean Services and Coastal Zone Management, National Ocean Service.

Accordingly, for the reasons set forth above, NOAA amends part 922, title 15 of the Code of Federal Regulations as follows:

PART 922—NATIONAL MARINE SANCTUARY PROGRAM REGULATIONS

1. The authority citation for part 922 continues to read as follows:

Authority: 16 U.S.C. 1431 et seq.

Subpart T—Wisconsin Shipwreck Coast National Marine Sanctuary

§ 922.216 [Amended]

2. Amend § 922.216 in paragraph (a) by adding “August 16, 2021,” before the phrase “the effective date of sanctuary designation”.

[FR Doc. 2021-17628 Filed 8-16-21; 8:45 am]

BILLING CODE 3510-22-P